DEPARTMENT OF TRANSPORTATION

Federal Aviation Administration

Notice of a Non-Aeronautical Land-Use Change Effecting the Quitclaim Deed and Federal Grant Assurance Obligations at A.B. Won Pat Guam International Airport, Tamuning, Guam

AGENCY: Federal Aviation Administration, DOT.

ACTION: Notice of a Non-Aeronautical Land-Use Change.

SUMMARY: The Federal Aviation Administration (FAA) proposes to rule and invites public comment on the application for a non-aeronautical land-use change of approximately 23.06 acres of airport property at A.B. Won Pat Guam International Airport, Tamuning, Guam from the aeronautical use provisions of the Quitclaim Deed and Grant Agreement Assurances since the land is not needed for the purpose for which it was conveyed. The property will be used to grant an easement to the Government of Guam for the construction of a roadway in exchange for which the Airport Authority will be fairly compensated. The project will improve traffic flow and better utilize the airport property to enhance transportation at and around the airport. The use of the land for a roadway represents a compatible land use that will not interfere with the airport or its operation, thereby protecting the interests of civil aviation.

DATES: Comments must be received on or before May 12, 2014.

FOR FURTHER INFORMATION CONTACT: Comments on the request may be mailed or delivered to the FAA at the following address. Mr. Gordon Wong, Lead Program Manager, Federal Register Comment, Federal Aviation Administration, Honolulu Airports District Office, P.O. Box 50244, Honolulu, HI 96850-0001. In addition, one copy of the comment submitted to the FAA must be mailed or delivered to Mr. Charles H. Ada II, Executive Director, Federal Register Comment, A. B. Won Pat Guam International Airport Authority, P.O. Box 8770, Tamuning, Guam 96931.

SUPPLEMENTARY INFORMATION: In accordance with the Wendell H. Ford Aviation Investment and Reform Act for the 21st Century (AIR 21), Public Law 10-181 (Apr. 5, 2000; 114 Stat. 61), this notice must be published in the Federal Register 30 days before the DOT Secretary may waive any condition imposed on a federally obligated airport by surplus property conveyance deeds or grant agreements.

The following is a brief overview of the request:

The Guam International Airport Authority (GIAA) requested a modification of the conditions in the Quitclaim Deed and Grant Agreement Assurances to permit non-aeronautical use of approximately 23.06 acres of land at A.B. Won Pat Guam International Airport, Tamuning, Guam to grant a roadway easement. The property subject to the easement is located northeast of the airfield and extends to the west side of the airport. The Government of Guam will be granted an easement to permit construction of the Tiyan Parkway along airport land that is not presently fully developed using local government and federal highway financing. The first phase of the project will provide an arterial roadway connection between Routes 8 and 10A that will improve airport access, create more efficient surface transportation to and from the airport, and ease traffic congestion around the airport. In addition, it will also permit Central Avenue to be permanently closed to eliminate the street's encroachment into the airport Runway Protection Zone. The second phase of the project will extend the Parkway eastward and occupy both on-airport and off-airport land. Phase 2 will proceed after funding and off-airport land is acquired for the additional right of way. The extended easement will not be granted until Phase 2 is actually begun. The Airport Authority will receive fair compensation for the easement, which will be devoted to airport purposes. Use of the land for the Tiyan Parkway is a compatible land use that will not interfere with or impede the operations and development of the airport. Based on the benefits of fair compensation and improved traffic circulation, the interests of civil aviation will be properly served.

Issued in Hawthorne, California, on April 3, 2014.
Steven Oetzell,
Acting Manager, Safety and Standards Branch, Airports Division, Western-Pacific Region.

[FR Doc. 2014-08205 Filed 4-10-14; 8:45 am]

BILLING CODE 4910-13-P